DEPARTMENT OF HOUSING AND URBAN DEVELOPMENT

[Docket No. FR-7092-N 36; OMB Control No.: 2506-0157]

30-Day Notice of Proposed Information Collection: Comment Request Self-Help Homeownership Opportunity Program (SHOP)

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: December 24, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, PRA Compliance Officer, Paperwork Reduction Act Division, PRAD, Department of Housing and Urban Development, 451 7th Street SW, Room 8210, Washington, DC 20410; email at PaperworkReductionActOffice@hud.gov, ATTN: Anna Guido, telephone (202) 402-5535. This is not a toll-free number. HUD welcomes and is prepared to receive calls om individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A. The Federal Register notice that solicited public comment on the information collection for a period of 60 days was published on December 9, 2024 at 89 FR 97648.

A. Overview of Information Collection

Title of Information Collection: Notice of Application for Designation as a Single-Family Foreclosure Commissioner.

OMB Approval Number: 2506-0157.

Type of Request: Reinstatement, with change, of a previously approved collection.

Form Number: SF-424; SF-424B; HUD-424-B; HUD 424 CB; HUD 424 CBW; HUD 426; HUD 424 M; SF-424D; HUD 2880; HUD 50153; HUD 2996; HUD 50070; SF-LLL/OMB 0348-0046; SF-LLL/OMB 4040-0013; and Grant Reporting (Disaster Recover Grant Reporting/DRGR System).

Description of the need for the information and proposed use:

This is a proposed information collection for submission requirements under the SHOP Notice of Funding Availability (NOFO) and post-award reporting requirements. Applicants are required to register in SAM.gov and submit all required SHOP NOFO specific narratives and forms in Grants.gov. HUD requires this information to ensure the eligibility of SHOP applicants and the compliance of SHOP proposals, to rate and rank SHOP applications, and to select applicants for grant awards. Information is collected on an annual basis from each applicant that responds to the SHOP NOFO. HUD also requires data such as semi-annual reports (which includes such information as activity and budget information as activity and budget information, drawdowns, performance reports, and federal financial reports) action plans, payment drawdown requests, environmental site certification, and semi-annual grant reporting post-award in order to ensure the SHOP grantees are complying with the terms of the Executed Grant Agreement. This information is reported in the Disaster Recovery Grant Reporting (DRGR) system.

Respondents: National and regional non-profit self-help housing organizations (including consortia) that apply for funds in response to the SHOP NOFO.

Information collection | Number of respondents | Frequency of response | Responses per annual | Burden hour per response | Annual burden hours | Hourly cost per response | Annual cost
Application for Federal Assistance SF-424 * | 0 | 0 | 0 | 0 | 0 | $0 | $0
Assurances for Non-Construction Program SF-424B * | 0 | 0 | 0 | 0 | 0 | 0 | 0
Assurances for Construction Programs SF-424D * | 0 | 0 | 0 | 0 | 0 | 0 | 0
Applicant and Recipient Assurances and Certifications HUD-424-B | 0 | 0 | 0 | 0 | 0 | 0 | 0
Certification Regarding Lobbying SF-LLL/OMB 0348-0046 | 0 | 0 | 0 | 0 | 0 | 0 | 0
Disclosure of Lobbying Activities SF-LLL/OMB 4040-0013 | 0 | 0 | 0 | 0 | 0 | 0 | 0
Grant Application Detailed Budget HUD-424CB | 0 | 0 | 0 | 0 | 0 | 0 | 0
Grant Application Detailed Budget Worksheet HUD-424CBW | 0 | 0 | 0 | 0 | 0 | 0 | 0
Indirect Cost Information for Award Applicant/Recipient HUD 426 ** | 10.00 | 1.00 | 10.00 | 0.25 | 2.5 | 86.76 | 216.90
Federal Assistance Funding Matrix and Certifications HUD 424M ** | 0 | 0 | 0 | 0 | 0 | 0 | 0
Applicant Recipient Disclosure Update Report HUD-2880 | 0 | 0 | 0 | 0 | 0 | 0 | 0
Promise Zone Certification HUD 50153 | 0 | 0 | 0 | 0 | 0 | 0 | 0
Opportunity Zone Certification HUD 2996 ** | 10.00 | 1.00 | 10.00 | 0.20 | 2 | 86.76 | 173.52
Certification for a Drug-Free Workplace HUD 50070 ** | 0 | 0 | 0 | 0 | 0 | 0 | 0
Applicant Eligibility | 10.00 | 1.00 | 10.00 | 2.00 | 20.00 | 86.76 | 1,735.20
SHOP Program Design and Scope of Work | 10.00 | 1.00 | 10.00 | 30.00 | 300.00 | 86.76 | 26,028.00
Rating Factor 1+ | 10.00 | 1.00 | 10.00 | 25.00 | 250.00 | 86.76 | 21,620.00
Rating Factor 2+ | 10.00 | 1.00 | 10.00 | 30.00 | 300.00 | 86.76 | 25,944.00
Rating Factor 3+ | 10.00 | 1.00 | 10.00 | 55.00 | 550.00 | 86.76 | 47,564.00
Rating Factor 4+ | 10.00 | 1.00 | 10.00 | 30.00 | 300.00 | 86.76 | 25,944.00
Rating Factor 5+ | 10.00 | 1.00 | 10.00 | 25.00 | 250.00 | 86.76 | 21,620.00
Grant Reporting (DRGR) | 4.00 | 2.00 | 8.00 | 100.00 | 800.00 | 86.76 | 70,208.00
Total Annual Hour Burden | 94.00 | 11.00 | 94.00 | 297.45 | 2,774.50 |  | 240,715.62

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department PRA Compliance Officer, Office of Policy Development and Research, Chief Data Officer.

[FR Doc. 2025-20783 Filed 11-21-25; 8:45 am]

BILLING CODE 4210-67-P